ENVIRONMENTAL PROTECTION AGENCY

Adequacy of Wisconsin Municipal Solid Waste Landfill Program

AGENCY: Environmental Protection Agency (EPA).

ACTION: Notice of proposed determination of adequacy.

SUMMARY: The U.S. Environmental Protection Agency (EPA) Region 5 is proposing to approve a modification to Wisconsin's approved municipal solid waste landfill (MSWLF) permit program. The modification allows the State to issue research, development and demonstration (RD&D) permits to owners and operators of MSWLF units in accordance with its state law.

DATES: All comments on Wisconsin's application for approval of its research, development and demonstration permit modification must be received by February 21, 2006.

ADDRESSES: Written comments should be sent to Susan Mooney, Waste Management Branch (Mail Code DW-8J), U.S. EPA Region 5, 77 West Jackson Boulevard, Chicago, IL 60604, telephone: (312) 886-3585. Comments may also be submitted electronically to mooney.susan@epa.gov or by facsimile at (312) 353-4788. You may examine copies of the relevant portions of Wisconsin's regulations during normal business hours at U.S. EPA Region 5.

FOR FURTHER INFORMATION CONTACT: Susan Mooney, Waste Management Branch (mail code DW-8J), U.S. EPA Region 5, 77 West Jackson Boulevard, Chicago, Illinois 60604, telephone (312) 886-3585, mooney.susan@epa.gov.

SUPPLEMENTARY INFORMATION:

A. Background

On March 22, 2004, EPA issued a final rule amending the municipal solid waste landfill criteria in 40 CFR part 258 to allow for research, development and demonstration (RD&D) permits. (69 FR 13242). This rule allows for variances from specified criteria for a limited period of time, to be implemented through state-issued RD&D permits. RD&D permits are only available in states with approved MSWLF permit programs which have been modified to incorporate RD&D permit authority. While States are not required to seek approval for this new provision, those States that are interested in providing RD&D permits to owners and operators of MSWLFs must seek approval from EPA before issuing such permits. Approval procedures for new provisions of 40 CFR part 258 are outlined in 40 CFR 239.12.

Wisconsin's MSWLF permit program was approved on November 20, 1996 (61 FR 59096). On November 8, 2005, Wisconsin applied for approval of its RD&D permit provisions. Wisconsin submitted its rules under NR 514.10 for review.

B. Decision

After a thorough review, U.S. EPA Region 5 is proposing that Wisconsin's RD&D permit provisions as defined under NR 514.10 are adequate to ensure compliance with the Federal criteria as defined at 40 CFR 258.4.

Authority: This action is issued under the authority of section 2002, 4005 and 4010(c) of the Solid Waste Disposal Act, as amended, 42 U.S.C. 6912, 6945 and 6949(a).

Dated: January 10, 2006.
Bharat Mathur,
Deputy Regional Administrator, U.S. EPA, Region 5.

[FR Doc. E6-636 Filed 1-19-06; 8:45 am]

BILLING CODE 6560-50-P